DEPARTMENT OF COMMERCE

International Trade Administration

[A-570-851]

Certain Preserved Mushrooms from the People's Republic of China: Notice of Partial Rescission of Seventh New Shipper Review

AGENCY: Import Administration, International Trade Administration, Department of Commerce.

ACTION: Notice of Partial Rescission of Seventh New Shipper Review.

EFFECTIVE DATE: April 23, 2004.

FOR FURTHER INFORMATION CONTACT: Brian Smith or Terre Keaton, Import Administration, International Trade Administration, U.S. Department of Commerce, 14th Street and Constitution Avenue, NW., Washington, DC 20230; telephone: (202) 482-1766 or (202) 482-1280, respectively.

SUPPLEMENTARY INFORMATION:

Background

On October 7, 2003, the Department published a notice of initiation of an antidumping duty new shipper review on certain preserved mushrooms from the People's Republic of China (“PRC”) with respect to the following two PRC companies: Nanning Runchao Industrial Trade Company, Ltd. (“Nanning Runchao”) and Guangxi Hengxian Pro-Light Foods, Inc. (“Guangxi Hengxian”). See Certain Preserved Mushrooms from the People's Republic of China: Initiation of Seventh Antidumping Duty New Shipper Review, 68 FR 57877.

On April 7, 2004, Nanning Runchao's counsel notified the Department that the U.S. Food and Drug Administration (“USFDA”) had ruled that its U.S. shipment of subject merchandise (i.e., the entry which is the basis for its new shipper review request) was being returned to the PRC because it did not comply with USFDA regulations. As a result, the Department informed Nanning Runchao that it was cancelling the verification which was to commence during April 2004 (see April 7, 2004, memorandum from team leader to the file). On April 9, 2004, Nanning Runchao withdrew its request for a new shipper review.

Accordingly, we are rescinding the new shipper review with respect to Nanning Runchao for the reasons mentioned below.

Scope of Order

The products covered by this order are certain preserved mushrooms whether imported whole, sliced, diced, or as stems and pieces. The preserved mushrooms covered under this order are the species Agaricus bisporus and Agaricus bitorquis. “Preserved mushrooms” refer to mushrooms that have been prepared or preserved by cleaning, blanching, and sometimes slicing or cutting. These mushrooms are then packed and heated in containers including, but not limited to, cans or glass jars in a suitable liquid medium, including, but not limited to, water, brine, butter or butter sauce. Preserved mushrooms may be imported whole, sliced, diced, or as stems and pieces. Included within the scope of this order are “brined” mushrooms, which are presalted and packed in a heavy salt solution to provisionally preserve them for further processing.

Excluded from the scope of this order are the following: (1) all other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.¹

¹ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. This decision is currently on appeal

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Period of Review

The period of review (“POR”) is February 1, 2003, through July 31, 2003.

Partial Recission of Review

The Department's regulations at 19 CFR 351.214(f)(1) provide that the Department may rescind a new shipper review “... if a party that requested a review withdraws its request no later than 60 days after the date of publication of notice of initiation of the requested review.” Nanning Runchao withdrew its request for new shipper review on April 9, 2004. Although Nanning Runchao's withdrawal is more than 60 days from the date of initiation, consistent with the Department's past practice in the context of administrative reviews conducted under section 751(a) of the Act, the Department has discretion to extend the time period for withdrawal on a case-by-case basis. (See e.g. Iron Construction Castings from Canada: Notice of Rescission of Antidumping Duty Administrative Review), 63 FR 45797 (August 27, 1998)). In this case, the Department has determined to grant the request to rescind this new shipper review with respect to Nanning Runchao because rescission of this review would not prejudice any party in this proceeding, as Nanning Runchao would continue to be included in the PRC-wide rate to which it was subject at the time of its request for a new shipper review. (See Silicon Metal from the People's Republic of China: Notice of Rescission of New Shipper Review), 64 FR 40831 (July 28, 1999).). Nanning Runchao is the only party that requested a review of its sale during the POR, and no other party has objected to its withdrawal of that request. Accordingly, we are rescinding, in part, this new shipper review on certain preserved mushrooms from the People's Republic of China as to Nanning Runchao. This review will continue with respect to Guangxi Hengxian.

Notification

We will instruct Customs and Border Protection (“CBP”) that bonding will no longer be permitted to fulfill security requirements for shipments from Nanning Runchao of certain preserved mushrooms from the PRC entered, or withdrawn from warehouse, for consumption on or after the publication date of this rescission notice. We will also instruct CBP to liquidate any entries by Nanning Runchao during the period of review at the cash deposit rate in effect at the time of entry.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305(a). Timely written notification of the return/destruction of APO materials or conversion to judicial protective order is hereby requested. Failure to comply with the regulations and terms of an APO is a violation which is subject to sanction.

We are issuing and publishing this determination and notice in accordance with sections 751(a)(2)(B)(iv) and 777(i) of the Act, as amended, and 19 CFR 351.214(f)(3).

Dated: April 19, 2004.
Jeffrey May,
Deputy Assistant Secretary for Import Administration.

[FR Doc. 04-9298 Filed 4-22-04; 8:45 am]

BILLING CODE 3510-DS-S